DEPARTMENT OF JUSTICE

Notice of Lodging of Consent Decree Under the Comprehensive Environmental Response, Compensation and Liability Act and the Clean Water Act

Notice is hereby given that on January 30, 2006, a proposed consent decree in United States et al. v. Schlumberger Technology Corporation, Case No. 8:06-cv-00308-GRA, was lodged with the United States District Court for the District of South Carolina.

In this action, the United States, the Office of the Governor of the State of South Carolina, the Director of the South Carolina Department of Natural Resources, the Commissioner of the South Carolina Department of Health and Environmental Control, and the Commissioner of the Georgia Department of Natural Resources filed claims for natural resource damages against Schlumberger Technology Corporation (“Schlumberger”) arising from the release of polychlorinated biphenyls at and from the Sangamo Weston/Twelvemile Creek/Lake Hartwell PCB Contamination Superfund Site under the Comprehensive Environmental Response, Compensation and Liability Act, 42 U.S.C. 9607(a)(1), (2) and (4), and the Clean Water Act, 33 U.S.C. 1321(f). The consent decree requires Schlumberger to: (1) Pay $11,960,000 into the Department of the Interior's Natural Resource Damage Assessment and Restoration Fund to be used by the natural resource trustees for projects to compensate the public for injuries to natural resources; (2) to pay $537,501 to reimburse the trustees for past costs and to pay for certain future costs to be incurred by the trustees; and (3) to complete a restoration project consisting of the removal of two dams on Twelvemile Creek.

The Department of Justice will receive for a period of thirty (30) days from the date of this publication comments relating to the consent decree. Comments should be addressed to the Assistant Attorney General, Environment and Natural Resources Division, P.O. Box 7611, U.S. Department of Justice, Washington, DC 20044-7611, with a copy to Ann Hurley, U.S. Department of Justice, 301 Howard Street, Suite 1050, San Francisco, CA 94105, and should refer to United States et al. v. Schlumberger Technology Corporation, D.J. Ref. #90-11-2-696/1.

During the public comment period, the consent decree may be examined on the following Department of Justice Web site: http://www.usdoj.gov/enrd/open.html. A copy of the consent decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $12.25 (25 cents per page reproduction cost) payable to the U.S. Treasury.

Ellen M. Mahan,
Deputy Section Chief, Environmental Enforcement Section, Environment and Natural Resources Division.

[FR Doc. 06-1183 Filed 2-8-06; 8:45 am]

BILLING CODE 4410-15-M